AGENCY FOR INTERNATIONAL DEVELOPMENT

Privacy Act of 1974; System of Records

AGENCY: Agency for International Development (USAID).

ACTION: Notice of modified Privacy Act system of records.

SUMMARY: The Agency for International Development (USAID) is issuing public notice of its intent to modify its system of records entitled USAID—008-Personnel Security and Suitability Investigations Records, last published in the Federal Register on May 1, 2013, in accordance with the Privacy Act of 1974, as amended. USAID is updating this system of records to provide clarification on the routine uses; and update the addresses for the location of the system.

DATES: Submit comments on or before 10 June 2022. This modified system of records will be effective 10 June 2022 upon publication. The Routine Uses are effective at the close of the comment period.

ADDRESSES: You may submit comments:

Electronic

• Federal eRulemaking Portal: http://www.regulations.gov. Follow the instructions on the website for submitting comments.

• Email: Privacy@usaid.gov.

Paper

• Fax: 202-916-4946.

• Mail: Chief Privacy Officer, United States Agency for International Development, 1300 Pennsylvania Avenue NW, Washington, DC 20523.

FOR FURTHER INFORMATION CONTACT: Ms. Celida A. Malone, USAID Privacy Program at United States Agency for International Development, Bureau for Management, Office of the Chief Information Officer, Information Assurance Division: ATTN: USAID Privacy Program, 1300 Pennsylvania Avenue NW, Washington, DC 20523, or by phone number at 202-916-4605.

SUPPLEMENTARY INFORMATION: USAID is proposing to modify its Personnel Security and Suitability Investigations Records SORN to update the system locations and enhance the descriptions of routine uses for records maintained in this system to provide further transparency into USAID's recordkeeping and information sharing practices. The Personal Security and Suitability Investigations Records are maintained by the USAID Office of Security (SEC). SEC has been charged with providing security services to protect USAID personnel and facilities, safeguard national security information, and promote and preserve personal integrity. SEC receives investigative authority from the Director of National Intelligence and the Office of Personnel Management to conduct personnel security investigations for USAID and all other Federal Agencies/Departments permitted under the delegation.

SYSTEM NAME AND NUMBER

Personnel Security and Suitability Investigations Records, USAID-008.

SECURITY CLASSIFICATION:

Classified—Secret.

SYSTEM LOCATION:

Records covered by this system are maintained at the following locations: (Paper) USAID Office of Security, 1300 Pennsylvania Avenue, Washington, DC 20523; (Electronic copies) AWS East Ashburn, 21155 Smith Switch Road, Ashburn, VA, USA and AWS West Oregon, 73575 Lewis & Clark Drive Boarman, Oregon, 97818.

SYSTEM MANAGER:

Director of the Office of Security, United States Agency for International Development: Office of Security, RRB, Suite 2.06-A, 1300 Pennsylvania Ave. NW, Washington, DC 20523.

AUTHORITY FOR MAINTENANCE OF THE SYSTEM:

The Foreign Assistance Act of 1961 (FAA), as amended; Executive Order 10450: Security requirements for Government Employment; Homeland Security Presidential Directive 12 (HSPD-12): Policy for a Common Identification Standard for Federal Employees and Contractors; Executive Order 12968: Access to Classified Information; Executive Order 12333: United States Intelligence Activities; Executive Order 13381: Strengthening Processes Relating to Determining Eligibility for Access to Classified National Security Information; Executive Order 13467: Reforming Processes Related to Suitability for Government Employment, Fitness for Contractor Employees, and Eligibility for Access to Classified National Security Information; Executive Order 13488: Granting Reciprocity on Excepted Service and Federal Contractor Employee Fitness and Reinvestigating Individuals in Positions of Public Trust; and the Intelligence Reform and Terrorism Prevention Act of 2004 (Pub. L. 108-458), and E.O. 9397 (SSN), as amended; E.O. 14042: Ensuring Adequate Safety Protocols for Federal Contractors; E.O. 14043: Requiring Coronavirus Disease 2019 Vaccination for Federal Employees; 5 U.S.C. 301, Departmental Regulations authorizes the operations of an executive agency, including the creation, custodianship, maintenance and distribution of records; and 44 U.S.C. 3101, Records management by agency heads.

PURPOSE OF THE SYSTEM:

The Office of Security gathers information in order to create investigative records, which are used for processing personal security background investigations to determine eligibility to be awarded a federal security clearance, suitability or fitness determination for federal employment, access to federally owned/controlled facilities and access to federally owned/controlled information systems.

CATEGORIES OF INDIVIDUALS COVERED BY THE SYSTEM:

Categories of individuals maintained in this system are: Current and former USAID employees; contractor personnel (Personal Service Contractors and Institutional Contractors); applicants for employment; persons and entities performing business with USAID to include consultants, volunteers, grantees and recipients; individuals employed from other Federal Agencies through a detail, Participating Agency Service Agreement, Resources Support Services Agreement, or the Interagency Personnel Act; individuals working at USAID through government agreements (second agreement); paid and unpaid interns; and visitors requiring access to USAID facilities; and the U.S. Citizen and/or non-U.S. Citizen spouse, intended spouse, family members, and/or cohabitants of the above listed individuals and other individuals who provide personal references for USAID employees and contractors.

CATEGORIES OF RECORDS IN THE SYSTEM:

Categories of records maintained in this system include:

• Individual's Contact Information, including: Name, Employee Identification Numbers, Job Title/Series, Grade, Home/Work Address, Home/Work Telephone Number, Names and Addresses of family members.

• Individual's Biographical Information, including: Date of Birth, Place of Birth, Citizenship status, Educational institutions attended, Military service, Financial information, including credit reports.

• Individual's Social Security Number (or other identifying number).

• Demographic Information: Race, Gender, Sexual Orientation, Marital Status.

• Employment information, such as employment history, records related to work performance or conduct issues, such as records of referrals, leave usage, supervisory/organizational interventions.

• Facility Access Information: Authorizations/restrictions, fingerprints, photographs, previous clearances levels granted; resulting clearance levels; documentation of release of security files; request for special access; records of infractions; and records of facility accesses and credentials issued.

• Individual's Character Information, such as Conduct and behavior in the community where they presently live and/or previously lived; Arrests and/or Convictions, Reports from Interviews and other inquiries.

• Electronic communication cables, such as email and instant messages, as well as,

• Medical records, such as vaccination records, test results, medical clearances, and insurance information.

Note 1: Listed below are other types of records that contain information about employee health and fitness, which are not covered by this system of records. Such records are covered by a government-wide system of records OPM/GOVT-10, which is managed by the Office of Personnel Management. Records covered by OPM/GOVT-10 include:

• Medical records, forms, and reports completed or obtained when an individual applies for a Federal job and is subsequently employed;

• Medical records, forms and reports completed during employment as a condition of employment, either by the USAID or by another State or local government entity, or a privacy sector entity under contract to USAID.

• Records pertaining to and resulting from drug screening for use of illegal drugs under Executive Order 12564.

RECORD SOURCE CATEGORIES:

Information in this system is obtained from the individual on whom it applies; independent sources such as other government agencies, state/local government; law enforcement agencies; credit bureaus; medical providers; educational institutions; private organizations; information provided by personal references; and through source interviews.

ROUTINE USES OF RECORDS MAINTAINED IN THE SYSTEM, INCLUDING CATEGORIES OF USERS AND PURPOSES OF SUCH USES:

In addition to those disclosures generally permitted under 5 U.S.C. 552a(b), all or a portion of the records contained in this system of records may be disclosed outside USAID as a routine use pursuant to 5 U.S.C. 552a(b)(3) as follows:

(1) To consumer reporting agencies in order to obtain consumer credit reports.

(2) To federal, international, state, and local law enforcement agencies, U.S. Government Agencies, courts, the Department of State, Foreign Governments, to the extent necessary to further the purposes of an investigation.

(3) Results of the investigation may be disclosed to the Department of State or other Federal Agencies for the purposes of granting physical and/or logical access to federally owned or controlled facilities and/or information systems in accordance with the requirements set forth in HSPD-12.

(4) To a court, magistrate, or other administrative body in the course of presenting evidence, including disclosures to counsel or witnesses in the course of civil discovery, litigation, or settlement negotiations or in connection with criminal proceedings, when USAID is a party to the proceeding or has a significant interest in the proceeding, to the extent that the information is determined to be relevant and necessary.

(5) To the Department of Justice or other appropriate United States Government Agency when the records are arguably relevant to a proceeding in a court or other tribunal in which USAID or a USAID official in his or her official capacity is a party or has an interest, or when the litigation is likely to affect USAID.

(6) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(7) To the Department of State and its posts abroad for the purpose of transmission of information between organizational units of USAID, or for purposes related to the responsibilities of the Department of State in conducting United States foreign policy or protecting United States citizens, such as the assignment of employees to positions abroad, the reporting of accidents abroad, ensuring fiscal accountability in transporting the effects personnel stationed at embassies, evacuation of employees and dependents, and other purposes for which officers and employees of the Department of State have a need for the records in the performance of their duties.

(8) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(9) To Federal agencies with which USAID has entered into an agreement to provide services to assist USAID in carrying out its functions under the Foreign Assistance Act of 1961, as amended. Such disclosures would be for the purpose of transmission of information between organizational units of USAID; of providing to the original employing agency information concerning the services of its employee while under the supervision of USAID, including performance evaluations, reports of conduct, awards and commendations, and information normally obtained in the course of personnel administration and employee supervision; or of providing other information directly related to the purposes of the inter-agency agreement as set forth therein, and necessary and relevant to its implementation.

(10) To appropriate officials and employees of a federal agency or entity when the information is relevant to a decision concerning the hiring, appointment, or retention of an employee; the assignment, detail or deployment of an employee; the issuance, renewal, suspension, or revocation of a security clearance; the execution of a security or suitability investigation; the letting of a contract; or the issuance of a grant or benefit.

(11) To the National Archives and Records Administration for the purposes of records management inspections conducted under the authority of 44 U.S.C. 2904 and 2906.

(12) To the Office of Management and Budget (OMB), in connection with review of private relief legislation, as set forth in OMB Circular A-19, at any stage of the legislative coordination and clearance process, as set forth in that Circular.

(13) To a former employee of USAID for purposes of responding to an official inquiry by a federal, state, or local government entity or professional licensing authority, in accordance with applicable agency regulations; or facilitating communications with a former employee that may be necessary for personnel-related or other official purposes where the agency requires information and/or consultation assistance from the former employee regarding a matter within that person's former area of responsibility.

(14) To appropriate agencies, entities, and persons when (a) USAID suspects or has confirmed that there has been a breach of the system of records, (b) USAID has determined that as a result of the suspected or confirmed breach there is a risk of harm to individuals, USAID (including its information systems, programs, and operations), the Federal Government, or national security; and (c) the disclosure made to such agencies, entities, and persons is reasonably necessary to assist in connection with USAID's efforts to respond to the suspected or confirmed breach or to prevent, minimize, or remedy such harm.

(15) To another Federal Department or Agency or Federal entity, when USAID determines information from this system of records is reasonably necessary to assist the recipient Department or Agency or entity in: (a) Responding to a suspected or confirmed breach; or (b) preventing, minimizing, or remedying the risk of harm to individuals, the recipient agency or entity (including its information systems, programs and operations), the Federal Government, or national security, that might result from a suspected or confirmed breach.

(16) To a congressional office from the record of an individual in response to an inquiry from the Congressional office made at the request of that individual.

(17) To the Federal Bureau of Investigation, the Department of Homeland Security, the National Counter-Terrorism Center (NCTC), the Terrorist Screening Center (TSC), or other appropriate federal agencies, for the integration and use of such information to protect against terrorism, if that record is about one or more individuals known, or suspected, to be or to have been involved in activities constituting, in preparation for, in aid of, or related to terrorism. Such information may be further disseminated by recipient agencies to Federal, State, local, territorial, tribal, and foreign government authorities, and to support private sector processes as contemplated in Homeland Security Presidential Directive/HSPD-6 and other relevant laws and directives, for terrorist screening, threat-protection and other homeland security purposes.

(18) To the Foreign Service Grievance Board in the course of the Board's consideration of matters properly before it.

POLICIES AND PRACTICES FOR STORAGE OF RECORDS:

USAID stores records in this system in electronic format and paper format. Records in paper format are stored in file folders in locked cabinets. Records in electronic format are kept in a user-authenticated and password-protected computerized database system. Records that contain national security information and are classified are stored in accordance with applicable executive orders, statutes, and Agency implementing regulations.

POLICIES AND PRACTICES FOR RETRIEVAL OF RECORDS:

Records are retrievable by last name, social security number, and/or USAID assigned case number or other unique identifier attributed to the individual.

POLICIES AND PRACTICES FOR RETENTION AND DISPOSAL OF RECORDS:

Records are retained and disposed of in accordance with disposition schedules approved by USAID and NARA General Records Schedule 5. 6-Security Records for Electronic Records shall apply.

ADMINISTRATIVE, TECHNICAL, AND PHYSICAL SAFEGUARDS:

Records are kept within the Office of Security secured space. Access to this space is controlled by electronic card readers, office personnel to control access, visitor escorts policy and supplemented by an armed response force. Administrative safeguards of records are provided through the use of internal Standard Operating Procedures and routine appraisal reviews of the personnel security and suitability program by the Director of National Intelligence and the Office of Personnel Management.

USAID has implemented controls to minimize the risk of compromising the information that is being stored. Access to the system containing the records in this system is limited to those individuals who have a need to know the information for performance of their official duties and who have appropriate clearances and permissions. USAID ensures that the practices stated in the Cross Match and Security Investigations Database Privacy Impact Assessments are followed by leveraging standard operating procedures (SOP), training, policies, rules of behavior, and auditing and accountability.

RECORD ACCESS PROCEDURES:

Individuals seeking access to information about themselves contained in this system of records should address inquiries to the Bureau for Management, Office of Management Services, Information and Records Division (M/MS/IRD), USAID Annex—Room 2.4. 0C, 1300 Pennsylvania Avenue NW, Washington, DC 20523. The requester may complete and sign a USAID Form 507-1, Certification of Identity Form or submit signed, written requests that should include the individual's full name, current address, and telephone number and this System of Records Notice number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The USAID rules for accessing records, contesting contents, and appealing initial agency determinations are contained in 22 CFR 212 or may be obtained from the program manager or system owner.

NOTIFICATION PROCEDURES:

Individuals seeking to determine if information about themselves is contained in this system of records should address inquiries to the Bureau for Management, Office of Management Services, Information and Records Division (M/MS/IRD), USAID Annex—Room 2. 4.0C, 1300 Pennsylvania Avenue NW, Washington, DC 20523. Individuals may complete and sign a USAID Form 507-1, Certification of Identity Form or submit signed, written requests that should include the individual's full name, current address, and telephone number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

Under the specific authority provided by subsection (k) (1), (3), and (5) of 5 U.S.C. 552a, USAID has promulgated rules specified in 22 CFR 215.14, that exempts this system from notice, access, and amendment requirements of 5 U.S.C. 552a, subsections (c) (3), (d); (e) (1); (e) (4); (G); (H); (I); and (f). USAID claims these exemptions to protect the materials required by Executive Order to be kept secret in the interest of national defense or foreign policy, to prevent subjects of investigation from frustrating the investigatory process, to ensure the proper functioning and integrity of law-enforcement activities, to prevent the disclosure of investigative techniques, to maintain the ability to obtain candid and necessary information, to fulfill commitments made to sources to protect the confidentiality of information, to avoid endangering these sources, and to facilitate the proper selection or continuance of the best applicants or persons for a given position.

HISTORY:

USAID modified the Personnel Security and Suitability Investigations Records system of records on April 17, 2008 (75 FR 20905).

USAID modified the Personnel Security and Suitability Investigations Records system of records on May 1, 2013 (78 FR 25414).

Celida Ann Malone.
Government Privacy Task Lead.

[FR Doc. 2022-10089 Filed 5-10-22; 8:45 am]

BILLING CODE 6116-01-P